DEPARTMENT OF HOMELAND SECURITY

Federal Emergency Management Agency

[Docket ID: FEMA-2014-0033; OMB No. 1660-0132]

Agency Information Collection Activities: Proposed Collection; Comment Request, Level 1 Assessment Form, Level 3 Evaluation Form for Students, and Level 3 Evaluation Form for Supervisors

AGENCY: Federal Emergency Management Agency, DHS.

ACTION: Notice; correction.

On November 19, 2014, the Federal Emergency Management Agency (FEMA) published an agency information collection notice in the Federal Register at 79 FR 68896. In the ADDRESSES section, FEMA inadvertently listed the docket ID in (1) Online as FEMA-2014-XXXX. The correct Docket ID is FEMA 2014-0033.

Dated: November 24, 2014.
Charlene D. Myrthil,
Director, Records Management Division, Mission Support Bureau, Federal Emergency Management Agency, Department of Homeland Security.

[FR Doc. 2014-28129 Filed 11-26-14; 8:45 am]

BILLING CODE 9111-53-P